DEPARTMENT OF HOUSING AND URBAN DEVELOPMENT

[Docket No.: FR-7077-N-07]

Privacy Act of 1974; System of Records

AGENCY: Office of Public and Indian Housing, HUD.

ACTION: Notice of a modified system of records.

SUMMARY: Under the Privacy Act of 1974, as amended, the U.S. Department of Housing and Urban Development (HUD), Office of Public and Indian Housing (PIH) gives notice of its intent to modify a system of records notice (SORN): Inventory Management System, also known as the Public and Indian Housing Information Center (IMS/PIC), to add two routine uses to the Routine Use section published in the Federal Register on March 25, 2019 and update the name of the system manager.

DATES: Comments will be accepted on or before April 20, 2023. This proposed action will be effective on the date following the end of the comment period unless comments are received which result in a contrary determination.

ADDRESSES: You may submit comments, identified by docket number and title, by one of these methods:

Federal e-Rulemaking Portal: http://www.regulations.gov. Follow the instructions provided on that site to submit comments electronically.

Fax: 202-619-8365.

Email: privacy@hud.gov.

Mail: Attention: Privacy Office; Mr. Ladonne White, Chief Privacy Officer, Office of the Executive Secretariat; 451 Seventh Street SW, Room 10139, Washington, DC 20410-0001.

Instructions: All submissions received must include the agency name and docket number for this rulemaking. All comments received will be posted without change to http://www.regulations.gov, including any personal information provided.

Docket: For access to the docket to read background documents or comments received go to http://www.regulations.gov.

FOR FURTHER INFORMATION CONTACT: For general questions please contact: LaDonne White, 451 Seventh Street SW, Room 10139, Washington, DC 20410-0001, telephone number 202-708-3054. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD PIH maintains the IMS/PIC System. IMS/PIC serves as a national repository of information related to Public Housing Authorities (PHAs), HUD-assisted families, and HUD-assisted properties, to provide rental assistance, information sharing, monitoring, and evaluating the effectiveness of PIH programs and subsidies. HUD is publishing this revised notice to add two new routine uses to the Routine Uses section to the SORN published in the Federal Register on March 25, 2019, at 84 FR 11117. The two new additions to the Routine Uses section allow for sharing of data with Universal Service Administrative Company (USAC)/Federal Communications Commission (FCC) to establish eligibility for benefits administered by USAC for families which also participate in a HUD rental assistance program, and to any Federal, State, or local agency to verify the accuracy and completeness of the eligibility data for HUD rental assistance program. The changes also include an update to the name of the system manager from Donald J. Lavoy to Ashley Sheriff.

SYSTEM NAME AND NUMBER:

Inventory Management System, Public and Indian Housing Information Center (IMS/PIC), HUD/PIH.01.

SECURITY CLASSIFICATION:

Unclassified.

SYSTEM LOCATION:

The files are maintained at these locations: U.S. Department of Housing and Urban Development, 451 Seventh Street SW, Washington, DC 20410; and IMS/PIC servers are in Charleston, WV; and are accessed through the internet. The servers are maintained by HUD Information Technology Services (HITS) contractor, and HUD's information technology partners: Perspecta. 15052 Conference Center Drive, Chantilly, VA 20151.

SYSTEM MANAGER(S):

Ashley Sheriff, Deputy Assistant Secretary, Real Estate Assessment Center (REAC), 550 12th Street SW, Suite 100, Washington, DC 20410. 202-475-7949. IMS/PIC, HUD/PIH.01.

* * * * *

ROUTINE USES OF RECORDS MAINTAINED IN THE SYSTEM, INCLUDING CATEGORIES OF USERS AND PURPOSES OF SUCH USES:

* * * * *

14. To the Universal Service Administrative Company (USAC), which is designated by the Federal Communications Commission (FCC) as the Federal administrator of the Universal Service Fund (USF or Fund) Lifeline Program (Lifeline), the Emergency Broadband Benefit (EBB) program and other Federal Telecommunications Benefit (FTB) programs that utilizes Lifeline eligibility criteria as specified by the Lifeline program, 47 CFR 54.409. The purpose of this routine use is to establish eligibility for the Lifeline, EBB and other FTB programs for families which also participate in a HUD rental assistance program.

15. To any Federal, State, or local agency (e.g., state agencies administering the State's unemployment compensation laws, Temporary Assistance to Needy Families, or Supplemental Nutrition Assistance Program agencies, U.S. Department of Health and Human Services, and U.S. Social Security Administration): To verify the accuracy and completeness of the data provided, to verify eligibility or continued eligibility in HUD's rental assistance programs, to identify and recover improper payments under the Payment Integrity Information Act of 2019, Public Law 116-117, and to aid in the identification of tenant errors, fraud, and abuse in assisted housing programs.

* * * * *

HISTORY:

The most recent prior IMS/PIC SORN was published in the Federal Register on March 25, 2019, at 84 FR 11117.

LaDonne White,
Chief Privacy Officer, Office of Administration.

[FR Doc. 2023-05748 Filed 3-20-23; 8:45 am]

BILLING CODE P